DEPARTMENT OF VETERANS AFFAIRS

Veterans' Rural Health Advisory Committee, Notice of Meeting

The Department of Veterans Affairs (VA) gives notice under Public Law 92-463 (Federal Advisory Committee Act) that the Veterans' Rural Health Advisory Committee will hold a meeting on October 25-26, 2012, at the Waterfront Place Hotel, Two Waterfront Place, Morgantown, WV, from 8 a.m. to 4 p.m. each day. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

On the morning of October 25, the Committee will hear from its Chairman; the Cabinet Secretary of the West Virginia Department of Veterans Assistance; the VA Chief of Staff; the Director of the Louis A. Johnson VA Medical Center; and the Deputy Administrator of Community Programs at the Department of Agriculture. In the afternoon, the Committee will receive overviews of the Office of Rural Health (ORH) Telehealth Projects funded; Louis A. Johnson Medical Center Women's Health Program; and ORH Funded Project Deep Dive. The Committee will also hear from the ORH Director.

On October 26, the Committee will hear opening remarks from its Chairman; panel discussions on Collaborating with Community Health Centers; and briefings on the Eastern Resource Center Project Updates. The Committee will discuss the Committee's evaluations, annual report, and spring meeting. Public comments will be received at 12:50 p.m.

Individuals who speak are invited to submit a 1-2 page summary of their comments for inclusion in the official meeting record. Members of the public may also submit written statements for the Committee's review to Ms. Judy Bowie, Designated Federal Officer, ORH (10P1R), Department of Veterans Affairs, 810 Vermont Avenue NW., Washington, DC 20420, or email at rural.health.inquiry@va.gov. Any member of the public seeking additional information should contact Ms. Bowie at (202) 461-1929.

Dated: September 18, 2012.
By Direction of the Secretary.
Vivian Drake,
Committee Management Officer.

[FR Doc. 2012-23429 Filed 9-21-12; 8:45 am]

BILLING CODE 8320-01-P